ENVIRONMENTAL PROTECTION AGENCY

40 CFR Part 125

[FRL-7472-2]

RIN-2040-AD85

Withdrawal of Direct Final Rule; National Pollutant Discharge Elimination System—Amendment of Final Regulations Addressing Cooling Water Intake Structures for New Facilities

AGENCY: Environmental Protection Agency (EPA).

ACTION: Withdrawal of direct final rule.

SUMMARY: Because EPA received adverse comment, we are withdrawing the direct final rule for “National Pollutant Discharge Elimination System—Amendment of Final Regulations Addressing Cooling Water Intake Structures for New Facilities; Direct Final Rule.” We published the direct final rule on December 26, 2002 (67 FR 78948), to make three minor technical corrections to the final regulations implementing section 316(b) of the Clean Water Act for new facilities. We stated in the direct final rule that if we received adverse comment by January 27, 2003, we would publish a timely notice of withdrawal in the Federal Register. We subsequently received adverse comment on the direct final rule. We will address those comments in a subsequent final action based on the parallel proposal also published on December 26, 2002 (67 FR 78956). As stated in the parallel proposal, we will not institute a second comment period on this action.

DATES: As of March 24, 2003, EPA withdraws the direct final rule published at 67 FR 78948, on December 26, 2002.

FOR FURTHER INFORMATION CONTACT: Martha Segall, Engineering and Analysis Division (4303T), USEPA Office of Science and Technology, Ariel Rios Bldg., 1200 Pennsylvania Ave., NW., Washington, DC, 20460 (phone: 202-566-1041; email: segall.martha@epa.gov).

SUPPLEMENTARY INFORMATION: EPA published a direct final rule on December 26, 2002, to make minor changes to a final rule published December 18, 2001, implementing section 316(b) of the Clean Water Act (CWA). The December 2001 final rule established national technology-based performance requirements applicable to the location, design, construction, and capacity of cooling water intake structures at new facilities using water withdrawn from rivers, streams, lakes, reservoirs, estuaries, oceans or other waters of the United States for cooling. The national requirements established the best technology available for minimizing adverse environmental impact associated with the use of these structures. The direct final rule clarified three technical issues on velocity monitoring, authority to require additional design and construction technologies, and procedures governing requests for less stringent alternative requirements.

EPA published a companion proposed rule on the same day as the direct final rule. The proposed rule invited comment on the substance of the direct final rule. The proposed rule stated that if EPA received adverse comment by January 27, 2003, the direct final rule would not take effect and EPA would publish a notice in the Federal Register withdrawing the direct final rule before the March 26, 2003, effective date. The EPA subsequently received adverse comment on the direct final rule. EPA plans to address those comments in a subsequent action. Today's action withdraws the direct final rule; the amendments to the final regulations addressing cooling water intake structures for new facilities will not take effect on March 26, 2003.

List of Subjects in 40 CFR Part 125

Environmental protection, Cooling water intake structures, Reporting and recordkeeping requirements, Waste treatment and disposal, Water pollution control.

Dated: March 19, 2003.
Christine Todd Whitman,
Administrator.

[FR Doc. 03-7047 Filed 3-21-03; 8:45 am]

BILLING CODE 6560-50-P